DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before November 24, 2006.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-837751

Applicant: Bureau of Reclamation, Phoenix, Arizona.

Applicant requests an amendment to an existing permit to conduct presence/absence surveys and enhance propagation for Gila Chub (Gila intermedia) within Arizona.

Permit No. TE-820337

Applicant: Apache-Sitegreaves National Forests, Springerville, Arizona.

Applicant requests an amendment to an existing permit to conduct presence/absence surveys for the following species within Arizona: Mexican gray wolf (Canis lupus baileyi), lesser long-nosed bat (Leptonycteris curasoae yerbabuenae), Colorado pikeminnow (Ptychocheilus lucius), and Gila Chub (Gila intermedia).

Permit No. TE-826091

Applicant: Bureau of Land Management, Phoenix, Arizona.

Applicant requests an amendment to an existing permit to conduct presence/absence surveys and enhance propagation for Gila Chub (Gila intermedia) within Arizona.

Permit No. TE-105165

Applicant: U.S. Army—White Sands Missile Range, White Sands Missile Range, New Mexico.

Applicant requests an amendment to an existing permit to survey, collect, and monitor Todsen's pennyroyal (Hedeoma todsenii) within New Mexico.

Authority: 16 U.S.C. 1531, et seq.

Dated: October 12, 2006.
Christopher Todd Jones,
Acting Regional Director, Region 2, Albuquerque, New Mexico.

[FR Doc. E6-17746 Filed 10-23-06; 8:45 am]

BILLING CODE 4310-55-P